DEPARTMENT OF TRANSPORTATION

Federal Railroad Administration

[Docket Number 2002-11809]

Notice of Public Hearing; The North County Transit District

The North County Transit District (NCTD), located in Oceanside, California, has sought a permanent waiver of compliance from certain parts of Title 49 of the Code of Federal Regulations, including Part 210 (Railroad Noise Emission Compliance Regulations), Part 217 (Railroad Operating Rules), Part 218 (Railroad Operating Practices), Part 219 (Control of Alcohol and Drug Use), Part 221 (Rear End Marking Devices), Part 223 (Safety Gazing Standards—Locomotives, Passenger Cars and Cabooses), Part 225 (Railroad Accidents/Incidents—Report Classification, and Investigations), Part 229 (Railroad Locomotive Safety Standards), Part 231 (Railroad Safety Appliance Standards), Part 238 (Passenger Equipment Safety Standards), Part 239 (Passenger Train Emergency Preparedness), and Part 240 (Qualification and Certification of Locomotive Engineers).

NCTD seeks approval of shared track usage and waiver of certain FRA regulations involving planned light rail passenger operations on the same track with freight trains between Oceanside and Escondido, California (Oceanside-Escondido Rail Project). FRA has jurisdiction over the 22-mile portion of the Oceanside-Escondido Rail Project that is also used for freight rail carrier service. The freight operator on the Oceanside-Escondido Rail Project is the Burlington Northern and Santa Fe Railway Company (BNSF), which currently conducts operations over this trackage. NCTD proposes to operate light rail vehicles on the same track as BNSF freight trains using temporal separation under which freight operations and passenger operations will not be conducted during the same part of the day. For further information about freight and passenger shared track usage, see “Statement of Agency Policy Concerning Jurisdiction Over the Safety of Railroad Passenger Operations and Waivers Related to Shared Use of the Tracks of the General Railroad System by Light Rail and Conventional Equipment,” 65 FR 42529 (July 10, 2000). See also “Joint Statement of Agency Policy Concerning Shared Use of the Tracks of the General Railroad System by Conventional Railroads and Light Rail Transit Systems,” 65 FR 42626 (July 10, 2000).

The Federal Railroad Administration (FRA) issued a public notice of the NCTD waiver petition and sought comments from interested parties (67 FR 14768, March 27, 2002). All documents pertaining to this petition are in the public docket, including NCTD's detailed waiver request, and are available for inspection and copying. The documents are also available on the Internet at the docket facility's Web site at http://dms.dot.gov.

After examining the railroad's proposal and the available facts, FRA has determined that a public hearing is necessary before a final decision is made on this proposal. The purpose of this public hearing is to afford the Railroad Safety Board the opportunity to gather additional information from all interested parties and to explore all available options and concerns before making a final decision on the NCTD petition. FRA will deliberate all of its options, which may include denial, approval, conditional approval, or approval in part and denial in part.

The public hearing is set for 10 a.m. (PST), on Thursday, January 23, 2002, North County Transit District Office, 810 Mission Avenue, Oceanside, California, 92054-2825. Interested parties are invited to present oral statements at the hearing. The hearing will be an informal one and will be conducted in accordance with Rule 25 of the FRA Rules of Practice (49 CFR part 211.25) by a representative designated by the FRA.

The hearing will be a nonadversarial proceeding and will include no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC, on December 2, 2002.
Grady C. Cothen, Jr.,
Deputy Associate Administrator for Safety Standards and Program Development.

[FR Doc. 02-30927 Filed 12-5-02; 8:45 am]

BILLING CODE 4910-06-P